FEDERAL MARITIME COMMISSION

Ocean Transportation Intermediary License Rescission of Order of Revocation

The Commission gives notice that the Order revoking the following Ocean Transportation Intermediary license has been rescinded pursuant to section 19 of the Shipping Act of 1984 (46 U.S.C. 40101).

License Number: 019113N.

Name: Amoy International, LLC dba Amoy Line dba VMS Lines.

Address: 14145 Proctor Avenue, Suite 14, City of Industry, CA 91746.

Order Published: September 19, 2014 (79 FR 56367 DOC No. 2014-22385)

Pursuant to the Commission's direct final rule (79 FR 56522), beginning October 20, 2014, these notices will no longer be posted in the Federal Register. After October 20, 2014, this information will be available on the Commission's Web site at http://www.fmc.gov. See OTI Licensing Updates.

Sandra L. Kusumoto,
Director, Bureau of Certification and Licensing.

[FR Doc. 2014-23647 Filed 10-3-14; 8:45 am]

BILLING CODE 6730-01-P